DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: American Community Survey Methods Panel Tests.

Form Number(s): ACS-1, ACS-1(SP), ACS-1PR, ACS-1PR(SP), ACS CATI(HU), ACS CAPI(HU).

OMB Control Number: 0607-0936.

Type of Request: Revision of a currently approved collection.

Burden Hours: 92,422.

Number of Respondents: 169,667.

Average Hours per Response: 28 minutes.

Needs and Uses: The U.S. Census Bureau requests authorization from the Office of Management and Budget (OMB) to conduct the American Community Survey (ACS) Methods Panel tests.

Given the rapid demographic changes experienced in recent years and the strong expectation that such changes will continue and accelerate, the once-a-decade data collection approach to a census is no longer acceptable as a source for the housing and socio-economic data collected on the census long-form. To meet the needs and expectations of the country, the Census Bureau developed the ACS. This survey collects detailed socioeconomic data every month and provides tabulations of these data on a yearly basis. The ACS allows the Census Bureau to provide more timely and relevant housing and socio-economic data while also reducing operational risks in the census by eliminating the long-form historically given to one in every six addresses.

Full implementation of the ACS includes an annual sample of approximately three million residential addresses a year in the 50 states and the District of Columbia, and another 36,000 addresses in Puerto Rico. A sample this large allows for annual production and release of single-year estimates for areas with a population of 65,000 or more. Lower levels of geography require aggregates of three and five years' worth of data in order to produce estimates of comparable reliability to the census long-form. However, an ongoing data collection effort with an annual sample of this magnitude requires that the ACS continue research, testing and evaluations aimed at improving ACS questionnaires content and related data collection materials. In addition, the ACS Methods Panel during the 2010-2012 period may include testing methods for increasing survey and operational efficiencies; alternative methods or procedures may be developed and evaluated that could potentially reduce the overall survey cost, lessen respondent burden, and improve response rates. At this time, specific plans are in place to propose three methods panel tests: A content reinterview study, the 2010 ACS Content Test, and an Internet Mode Test. Since the ACS Methods Panel is designed to address emerging issues, we may conduct additional testing as needed. Testing would focus on methods for reducing data collection costs or testing new questions that have an urgent need to be included on the ACS.

During Census 2000, a content reinterview study (CRS) was conducted in conjunction with the long form, which the ACS now replaces. The decennial CRS was an evaluation of the quality of the data collected in the census, focusing on response bias and simple response variance (reliability). The Census Bureau proposes to design and implement a CRS to look at the current ACS production questions on an ongoing basis. This will allow for the identification of problems with reliability. Results from the CRS will provide data users with concrete data quality measures (such as reliability or bias measures) for each ACS item.

The ACS CRS will allow the Census Bureau to continuously monitor the data quality of the ACS and identify questions that are currently unreliable or that may become unreliable due to changes in the survey climate (e.g., changes in policy that change the definition of what the ACS is trying to measure). The results from the CRS, generated on a yearly basis, would identify which questions require modifications and future testing via a content test, thus providing a more scientific approach to determining the need for content testing of current ACS items. The CRS will be conducted by telephone only with a small sample of cases that responded during production.

Second, in response to Federal agencies' requests for new and revised ACS questions, the Census Bureau plans to conduct the 2010 ACS Content Test. Changes to the current ACS content and the addition of new content were identified through the Interagency Committee for the ACS and through recent legislative action. The primary objective of the 2010 ACS Content Test is to test whether changes to question wording, response categories, and redefinition of underlying constructs improve the quality of data collected. The Census Bureau proposes to evaluate changes to the questions, or for new questions, to compare the performance of question versions to each other as well as to other well-known sources of such information. The proposed topics for content testing are new questions to measure computer and Internet access and usage, as well as parental place of birth and revisions to veteran's identification and period of service, cash public assistance income, wages income and property income, and the Food Stamp program name.

A third test, the ACS Internet ModeTest, is planned to determine the best methods for informing sample households about an ACS Internet response option and encouraging them to respond. By offering an Internet response option in the ACS, the Census Bureau is taking further steps to comply with the e-gov initiative and potentially reduce collection costs. The objectives of the Internet ModeTest include: potential improvement in self-response rates; potential cost savings if we can change the distribution of responses by mode (i.e., obtain more responses by Internet); and potential improvement in data quality including a potential reduction in item nonresponse.

Two additional tests are currently planned. The specific details of these tests are not known at this time but would include an additional content test for new questions that have an urgent need to be included on the ACS as well as an additional test of new methods to address an emergent need.

Affected Public: Individuals or households.

Frequency: One time.

Respondent's Obligation: Mandatory.

Legal Authority: Title 13 U.S.C., sections 141, 193 and 221.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: October 6, 2009.
Glenna Mickelson,
Management Analyst, Office of the Chief Information Officer.

[FR Doc. E9-24466 Filed 10-9-09; 8:45 am]

BILLING CODE 3510-07-P